DEPARTMENT OF DEFENSE

Office of the Secretary

32 CFR Part 272

[Docket ID: DOD-2019-OS-0007]

RIN 0790-AK51

Administration and Support of Basic Research by the Department of Defense

AGENCY: Under Secretary of Defense (Research and Engineering), Department of Defense (DoD).

ACTION: Final rule.

SUMMARY: This final rule removes DoD's regulation concerning the administration and support of basic research by the Department of Defense, because the content of this part is internal to the Department. Therefore, this CFR part can be removed.

DATES: This rule is effective September 29, 2020.

FOR FURTHER INFORMATION CONTACT: Ms. Barbara Orlando, Basic Research Office, telephone 571-372-6413.

SUPPLEMENTARY INFORMATION: The DoD rule at 32 CFR part 272, last updated on September 23, 2005 (70 FR 55726), is internal to the DoD and does not need to be codified in the CFR. Based on a recommendation from the DoD Regulatory Reform Task Force, this part is removed. It has been determined that publication of this CFR part removal for public comment is impracticable, unnecessary, and contrary to public interest since it is based on removing DoD internal policies and procedures that are publicly available on the Department's issuance website. DoD internal guidance concerning administration and support of basic research by the DoD will continue to be updated and maintained in DoD Instruction 3210.1, “Administration and Support of Basic Research by the Department of Defense,” last updated on October 15, 2018 (available at http://www.esd.whs.mil/Portals/54/Documents/DD/issuances/dodi/321001p.pdf).

This rule is not significant under Executive Order (E.O.) 12866, “Regulatory Planning and Review.” Therefore, E.O. 13771, “Reducing Regulation and Controlling Regulatory Costs,” does not apply.

List of Subjects in 32 CFR part 272

Grant programs-science and technology, Research.

PART 272—[REMOVED]

Accordingly, by the authority of 5 U.S.C. 301, 32 CFR part 272 is removed.

Dated: September 25, 2020.
Aaron T. Siegel,
Alternate OSD Federal Register Liaison Officer, Department of Defense.

[FR Doc. 2020-21612 Filed 9-28-20; 8:45 am]

BILLING CODE 5001-06-P